DEPARTMENT OF TRANSPORTATION

Federal Highway Administration

[Docket No. FHWA-2023-0051]

Agency Information Collection Activities: Request for Comments for a New Information Collection

AGENCY: Federal Highway Administration (FHWA), DOT.

ACTION: Notice and request for comments.

SUMMARY: The FHWA has forwarded the information collection request described in this notice to the Office of Management and Budget (OMB) to renew an information collection. We published a Federal Register Notice with a 60-day public comment period on this information collection on September 26, 2023. We are required to publish this notice in the Federal Register by the Paperwork Reduction Act of 1995.

DATES: Please submit comments by January 3, 2024.

ADDRESSES: You may submit comments identified by DOT Docket ID Number 0051 by any of the following methods:

Website: For access to the docket to read background documents or comments received go to the Federal eRulemaking Portal: Go to http://www.regulations.gov.

Follow the online instructions for submitting comments.

Fax: 1-202-493-2251.

Mail: Docket Management Facility, U.S. Department of Transportation, West Building, Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Janelle Hinton, (202) 941-6744/janelle.hinton@dot.gov; Martha Kenley, (202) 604-6979/martha.kenley@dot.gov, Department of Transportation, Federal Highway Administration, Office of Civil Rights, 1200 New Jersey Avenue SE, Washington, DC 20590. Office hours are from 8 a.m. to 5 p.m., Monday through Friday, except Federal Holidays.

SUPPLEMENTARY INFORMATION:

Title: Disadvantaged Business Enterprise Supportive Services (DBE/SS).

Background: The DBE/SS regulations (23 CFR 230.204(c)) require State DOT recipients to provide a detailed Statement of Work (SOW) outlining the proposed services and budget, approximated, based on the provided estimated funding allocation. State DOTs must submit a SOW that conforms to the purpose of the program, regulatory requirements, and federal cost principles to be eligible for funding. State DOTs send their proposed SOWs to the respective FHWA Division Office for review and approval, and the Division Offices sends the SOWs to HCR for concurrence and obtaining approvals necessary for allocating funds. While HCR has created guidance for State DOTs to follow in creating their SOWs, currently they are submitted in paper form and the contents and size of the submissions vary. Providing State DOTs with a SOW template available through the Civil Rights Connect System will streamline the SOW creation, submission, review, and approval process.

The DBE/SS regulations (23 CFR 230.204(h)) require State DOT recipients to provide reports to FHWA as a condition of receiving federal funding. Although the regulations require reporting, there is no prescribed format for reporting this information to FHWA. Thus, FHWA receives varied reports that often lack the critical information necessary to evaluate whether the metrics identified in the State DOT's SOW have been met, and the number and demographic breakdown of DBEs that have participated in the program. Without this data provided in a manner that can easily be converted into national reports, FHWA is unable provide meaningful stewardship and oversight or to measure the effectiveness of DBE/SS Programs nationally. The national picture created by this report will enable HCR to indicate notable implementation efforts and improve its deployment of technical assistance to FHWA divisions offices. Also, standardized data will improve FHWA's ability to meaningfully respond to stakeholder inquiries, including Congress, regarding program accomplishments. Further, with standardized data of program results, FHWA can better support requests for additional funding.

The information required to populate the DBE/SS SOW template is based on existing requirements found in 23 CFR 230, subpart C; therefore, State DOTs should have the information to populate the SOW readily available. The information will merely be entered in an electronic fillable form as opposed to submitting a paper copy. The electronic system will also directly pre-populate the State's Annual Accomplishment Report with the metrices identified in the State's SOW. The information FHWA proposes to collect in its DBE/SS Accomplishment Report is based on existing reporting requirements found in 23 CFR 230, subpart B and the State DOT's individual detailed statement of work; therefore, State DOTs should have this information readily available. In addition, the fillable format will streamline the State's reporting process by eliminating the States' need to duplicate language from the SOW into the Annual Report.

While the requirements will not change, use of the SOW template and Accomplishment Report form will benefit State DOTs and FHWA by making the submissions more uniform in size and content, streamlining the submission and review process, and pair the performance metrics more easily with their accomplishments. By providing the SOW template along with this reporting format, FHWA aims to improve its stewardship and oversight of the DBE/SS Program, while ensuring State DOTs are effectively administering these discretionary grants for the benefit of DBEs.

Respondents: State Departments of Transportation Agencies responsible for submitting DBE/SS Statement of Work for the purpose of increasing the capacity and to improve the overall business practices of DBEs.

Frequency: DBE/SS SOW are submitted annually (upon funding availability); Accomplishment Reports are submitted every year by July 31st.

Estimated Average Burden per Response: The estimated number of hours for each of the 52 recipients to compile and submit the requested data is estimated to be no more than four employee hours annually.

Estimated Total Annual Burden Hours: The estimated total annual burden for 53 recipients is 212 hours annually.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued On: November 28, 2023.
Jazmyne Lewis,
Information Collection Officer.

[FR Doc. 2023-26511 Filed 12-1-23; 8:45 am]

BILLING CODE P